DEPARTMENT OF HOMELAND SECURITY

Federal Emergency Management Agency

[Docket ID: FEMA-2020-0023; OMB No. 1660-0005]

Agency Information Collection Activities: Proposed Collection; Comment Request; FEMA Inspection and Claims Forms

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning the collection of information related to the flood insurance claims process and the housing inspection damage assessment process.

DATES: Comments must be submitted on or before July 13, 2020.

ADDRESSES: To avoid duplicate submissions to the docket, please use only one of the following means to submit comments:

(1) Online. Submit comments at www.regulations.gov under Docket ID FEMA-2020-0023. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: For information related to Claims Forms, contact: Daniel Claire, Program Analyst, Federal Insurance & Mitigation Administration, 202-552-9891, Daniel.Claire@fema.dhs.gov. For information related to Housing Inspection Instruments, contact: Brian Thompson, Supervisory Program Specialist, FEMA Recovery Directorate, Brian.Thompson6@fema.dhs.gov. You may contact the Information Management Division for copies of the proposed collection of information at email address: FEMA-Information-Collections-Management@fema.dhs.gov.

SUPPLEMENTARY INFORMATION: Congress created the National Flood Insurance Program (NFIP) through enactment of the National Flood Insurance Act of 1968 (NFIA) (Title XIII of Pub. L. 90-448, 82 Stat. 476), codified at 42 U.S.C. 4001 et seq. The NFIP is a Federal program enabling property owners in participating communities to purchase insurance as a protection against flood losses in exchange for state and community floodplain management requirements that reduce the risk of future flood damages. Communities participate in the NFIP based on an agreement between the community and FEMA. If a community adopts and enforces a floodplain management ordinance to reduce future flood risk to new construction in floodplains, FEMA will make flood insurance available within the community as a financial protection against flood losses. Accordingly, the NFIP is comprised of three key activities: flood insurance, floodplain management and flood hazard mapping.

A prospective policyholder may purchase an NFIP flood insurance policy either: (1) Directly from the Federal Government through a direct servicing agent (referred to as “NFIP Direct”), or (2) from a participating private insurance company through the Write Your Own (WYO) Program. The Standard Flood Insurance Policy (SFIP) sets out the terms and conditions of insurance. See 44 CFR part 61, Appendix A. FEMA establishes terms, rate structures, and premium costs of SFIPs. The terms, coverage limits, and flood insurance premiums are the same whether purchased from the NFIP Direct or the WYO Program. See 44 CFR 62.23(a).

All flood loss claims presented under the NFIP are paid directly with U.S. Treasury funds, regardless of whether the policy is issued by the government (FEMA) directly or by a WYO company. The information in this collection includes all the data necessary to adjudicate claims for damages and benefits resulting from flood losses.

In addition to the requirements of the NFIA, section 205 of the Bunning-Bereuter-Blumenauer Flood Insurance Reform Act of 2004 (42 U.S.C. 4011 note) required FEMA to establish a claims appeals process. FEMA implemented the claim appeal process at 44 CFR 62.20.

Pertaining to housing inspections, the Robert T. Stafford Disaster Relief and Emergency Assistance Act (Stafford Act), Pub. L. 93-288, as amended, is the legal basis for FEMA to provide financial assistance and services to individuals applying for disaster assistance benefits in the event of a Federally-declared disaster. Regulations in 44 CFR 206.110—Federal Assistance to Individuals and Households implement the policy and procedures set forth in section 408 of the Stafford Act, 42 U.S.C. 5174, as amended. This program provides financial assistance and, if necessary, direct assistance to eligible individuals and households who, as a direct result of a major disaster or emergency, have uninsured or under-insured, necessary expenses and serious needs, and are unable to meet such expenses or needs through other means. Individuals and households applying for assistance must provide information detailing their losses and needs through the disaster assistance registration process covered under collection 1660-0002, Disaster Assistance Registration. If FEMA determines the applicant had home or personal property damage, has no insurance, or that the applicant's insurance coverage may not meet their needs, an inspection is issued to verify disaster caused damage. All pertinent information for a specific applicant is stored under a unique registration identification (ID) within the National Emergency Management Information System (NEMIS). An inspection request occurs due to NEMIS-driven business rules (automatically), applicant request, or FEMA caseworker request. The scope of an inspection for owners includes noting real and personal property (furnishing and appliances) damages to the interior and exterior of the dwelling, addressing special needs, transportation, unmet needs, and miscellaneous purchases. Inspectors do not note real property specifications for renters.

Once the inspector validates the information provided by the applicant during registration intake, the inspector begins a physical assessment of real and/or personal property damages utilizing Automated Construction Estimator (ACE) software. The inspector then uploads this information back to FEMA via the NEMIS through use of a secure connection. The inspector only records observed disaster caused damages and does not determine eligibility or damage award levels. FEMA's policies and business rules determine eligibility and award levels based upon the damage assessment, and other available information.

Collection of Information

Title: FEMA Inspection and Claims Forms, formerly National Flood Insurance Program Claim Forms.

Type of Information Collection: Revision of a currently approved information collection.

OMB Number: 1660-0005.

FEMA Forms: FEMA Form 086-0-6; Personal Property (Contents) Worksheet, FEMA Form 086-0-7; Building Property Worksheet, FEMA Form 086-0-9; Proof of Loss—Building & Contents (Policyholder-Prepared), FEMA Form 086-0-10; Proof of Loss—Increased Cost of Compliance (ICC), FEMA Form 086-0-11; First Notice of Loss, FEMA Form 086-0-17; Manufactured (Mobile) Home/Travel Trailer Worksheet, FEMA Form 086-0-22; Proof of Loss—Building & Contents (Adjuster-Prepared), FEMA Form 086-0-23; Advance Payment Request—Building & Contents, FEMA Form 086-0-24; Advance Payment Request—Increased Cost of Compliance (ICC), FEMA Form 086-0-25; Claim Appeal, FEMA Form 009-0-143; Onsite Housing Inspections, FEMA Form 009-0-144; Remote Voice Telephony Housing Inspections, FEMA Form 009-0-145; Remote Video Telephony Housing Inspections.

Abstract: The claims forms used for the National Flood Insurance Program are used by policyholders to collect the information needed to investigate, document, evaluate, and settle claims against National Flood Insurance Program policies for flood damage to their insured property or qualification for benefits under Increased Cost of Compliance coverage. The housing inspection instruments are used to collect and store damage assessment information in ACE to assist in the determination of Individuals and Households Program assistance for applicants with disaster caused damage to their primary residence.

Affected Public: Individuals, households, businesses, or other for-profit.

Estimated Number of Respondents: 312,026.

Estimated Number of Responses: 312,026.

Estimated Total Annual Burden Hours: 314,149.

Estimated Total Annual Respondent Cost: $11,796,263.

Estimated Respondents' Operation and Maintenance Costs: $0.00.

Estimated Respondents' Capital and Start-Up Costs: $0.00.

Estimated Total Annual Cost to the Federal Government: $103,715,613.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-10374 Filed 5-13-20; 8:45 am]

BILLING CODE 9110-52-P